DEPARTMENT OF COMMERCE

National Oceanic and Atmospheric Administration

[RTID 0648-XC679]

Endangered and Threatened Species; Take of Abalone

AGENCY: National Marine Fisheries Service (NMFS), National Oceanic and Atmospheric Administration (NOAA), Commerce.

ACTION: Notice of receipt of application; to renew one scientific research and enhancement permit.

SUMMARY: Notice is hereby given that NMFS has received a request to renew an existing scientific research and enhancement permit for white abalone. The proposed work is intended to increase knowledge of species listed under the Endangered Species Act (ESA) and to help guide management, conservation, and recovery efforts. The application may be viewed online at: https://apps.nmfs.noaa.gov/preview/preview_open_for_comment.cfm.

DATES: Comments or requests for a public hearing on the application must be received at the provided email address (see ADDRESSES) on or before February 17, 2023.

ADDRESSES: All written comments on the applications should be submitted by email to nmfs.wcr-apps@noaa.gov. Please include the permit number (14344-3R) in the subject line of the email.

FOR FURTHER INFORMATION CONTACT: Susan Wang, Long Beach, CA (email: Susan.Wang@noaa.gov). Permit application instructions are available from the address above, or online at https://apps.nmfs.noaa.gov.

SUPPLEMENTARY INFORMATION:

Species Covered in This Notice

The following listed species are covered in this notice:

Endangered white abalone (Haliotis sorenseni).

Authority

Scientific research and enhancement permits are issued in accordance with section 10(a)(1)(A) of the ESA (16 U.S.C. 1531 et seq.) and regulations governing listed fish and wildlife permits (50 CFR parts 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Applications Received

Permit 14344-3R

The University of California, Davis' Bodega Marine Laboratory (BML) has requested to renew a research and enhancement permit that currently authorizes a captive breeding program for white abalone. The permit allows BML and approved facilities to hold, breed, grow-out, and conduct lab studies on captive white abalone. The permit also allows BML and co-investigators to collect wild white abalone from the ocean and bring them in to captivity to serve as broodstock for the captive breeding program. The requested permit renewal would allow these activities to continue for an additional 5 years.

The purpose of the research and enhancement permit is to: (1) investigate and overcome key barriers to captive propagation of endangered white abalone in captivity; (2) identify limitations on reproduction in wild white abalone; (3) understand disease processes and how to mitigate them; and (4) seek the most successful means of restoring white abalone in the wild.

Activities would include collection from the wild, captive holding, breeding, rearing, grow-out, lab experiments, genetic sampling, tagging, observation, and transport of white abalone. Both wild-collected and captive-bred white abalone are currently held at BML and several captive facilities throughout the coast. Additional wild white abalone may be collected to increase the numbers and genetic integrity of the captive broodstock. We expect and intend that the captive breeding program will benefit white abalone by supporting critical lab studies to inform recovery and providing healthy abalone for outplanting to restore wild populations.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: January 11, 2023.
Angela Somma,
Chief, Endangered Species Division, Office of Protected Resources, National Marine Fisheries Service.

[FR Doc. 2023-00803 Filed 1-17-23; 8:45 am]

BILLING CODE 3510-22-P